DEPARTMENT OF JUSTICE

Notice of Lodging of Consent Decree Under the Comprehensive Environmental Response Compensation and Liability Act (“CERCLA”)

Pursuant to 28 CFR 507 notice is hereby given that on December 10, 2004, a proposed Consent Decree in the case of United States v. MW Custom Papers, LLC et al. Civil Action No. 1:04-CV-383, was lodged with the United States District Court for the Eastern District of Tennessee.

In this action, the United States sought injunctive relief and recovery of response costs under Sections 106(a) and 107 of CERCLA, 42 U.S.C. 9606(a) and 9607, to remedy conditions in connection with the release or threatened release of hazardous substances into the environment at the Tennessee Products Superfund Site in Chattanooga, Tennessee (hereinafter referred to as the “Site”). The Settlors under the proposed Consent Decree, MW Custom Papers, LLC, Reilly Industries, Inc., and Southern Wood Piedmont Company, each arranged for the disposal of hazardous substances at the Site.

Under a proposed Consent Decree, the Settlors have agreed to perform the remedy chosen by EPA to clean up the Site, and to pay $6.35 million which will go towards the cleanup and partial reimbursement of EPA's past response costs. The United States has also agreed to pay $17.4 million in settlement of its liability at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. MW Custom Papers, LLC et al., D.J. Ref. 90-11-3-1709/1.

The Consent Decree may be examined at U.S. EPA Region 4, 61 Forsyth Street, Atlanta, Georgia, 30303—Attn: William Sapp. During the public comment period, the Consent Decree, may also be examined on the following Department of Justice Web site, http://www.usdoj.gov/enrd/open.html.

A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Decree from the Consent Decree Library, please enclose a check in the amount of $95.00 (25 cents per page reproduction cost for 380 pages) payable to the U.S. Treasury. In requesting a copy of the Consent Decree, exclusive of exhibits, please enclose a check in the amount of $21.25 (25 cents per page reproduction cost for 85 pages) payable to the U.S. Treasury.

Ellen M. Mahan,
Assistant Section Chief, Environmental Enforcement Section.

[FR Doc. 04-28045 Filed 12-22-04; 8:45 am]

BILLING CODE 4410-15-M